DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4104, and 44 CFR part 67. The Agency has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground Modified | Communities affected
Licking County, Ohio and Incorporated Areas
Docket Nos.: FEMA-B-7454 and B-7462
Beaver Run | Approximately 200 feet downstream of State Route 79 | +869 | Licking County (Unincorporated Areas).
| Approximately 400 feet downstream of Canyon Road | +886 | Village of Hebron.
Bell Run | Approximately 800 feet downstream of U.S. Route 40 | +897 | Licking County (Unincorporated Areas).
| Just downstream of Refugee Road | +903
Buckeye Lake |  | +893 | Licking County (Unincorporated Areas), Village of Buckeye Lake.
Clear Run | Approximately 2,000 feet downstream of Newark-Granville Road | +902 | Licking County (Unincorporated Areas), Village of Granville.
| Approximately at State Route 661 | +966
Heath Lateral B | Approximately 160 feet upstream of Franklin Avenue | +838 | City of Heath, City of Newark.
| Approximately 320 feet upstream of State Route 13 | +866
Heath Lateral C | Approximately 400 feet downstream of 30th Street | +844 | City of Heath.
| Approximately 6,336 feet upstream of State Route 79 | +876
Heath Lateral D | Just upstream of Irving Wick Drive East | +908 | Licking County (Unincorporated Areas).
| Approximately 1,890 feet upstream of Irving Wick Drive East | +936 | City of Heath.
Heath Lateral E | Just downstream of State Route 79 | +862 | Licking County (Unincorporated Areas).
| Approximately 1,250 feet downstream of Conrail Railroad | +894 | City of Heath.
Heath Lateral EA | Approximately at confluence with Heath Lateral E | +885 | Licking County (Unincorporated Areas).
| Approximately 3,600 feet upstream of confluence with Heath Lateral E | +891 | City of Heath.
Heath Lateral F | Approximately 320 feet downstream of confluence with Heath Lateral FA | +877 | City of Heath.
| Approximately 1,140 feet upstream of confluence with Heath Lateral FA | +886
Heath Lateral FA | Approximately 60 feet upstream of confluence with Heath Lateral F | +878 | City of Heath.
| Approximately 2,380 feet upstream of confluence with Heath Lateral F | +895
Hebron Tributary | Approximately 900 feet downstream of State Route 79 | +877 | Licking County (Unincorporated Areas).
| Just downstream of Cumberland Street | +888 | Village of Hebron.
Kiber Run | Approximately 5,100 feet downstream of Mink Street | +1,047 | Licking County (Unincorporated Areas).
| Approximately 3,500 feet upstream of Mink Street | +1,073 | Village of Johnstown.
Muddy Fork | Approximately 1,450 feet downstream of State Route 310 | +980 | Licking County (Unincorporated Areas).
| Approximately 1,800 feet upstream of Columbia Road | +1,024 | City of Pataskala.
North Fork Licking River | Approximately 1,4000 feet upstream of Mt. Vernon Road | +890 | Village of St. Louisville.
| Approximately 0.6 miles upstream of Mt. Vernon Road | +897
Raccoon Creek | Approximately 1,600 feet downstream of CSX Railroad | +818 | Licking County (Unincorporated Areas).
| Approximately of 1,100 feet upstream of State Route 37 | +1,080 | City of Newark, Village of Johnstown, Village of Alexandria, Village of Granville.
Ramp Creek | Approximately 850 feet downstream of Liberty Drive | +849 | Licking County (Unincorporated Areas).
| Approximately 100 feet downstream of Thornwood Drive | +884 | City of Heath.
Rocky Fork (Backwater from Licking River) | Approximately 200 feet upstream of Bridge Street | +792 | Village of Hanover.
| Approximately 200 feet upstream of State Route 16 | +792
Sharon Valley Run | Approximately at Country Club Road | +876 | Licking County (Unincorporated Areas).
| Approximately 300 feet downstream of Jones Road. | +940 | City of Newark.
South Fork Licking River | Downstream side of State Route 13 | +816 | Licking County (Unincorporated Areas).
| Approximately 2,600 feet upstream of Mink Street Road | +1,095 | City of Heath, City of Hebron, City of Newark, City of Pataskala.
South Fork Licking River | Approximately 0.7 miles upstream of Gale Road | +918 | Village of Kirkersville.
| Approximately 1.0 miles downstream of York Road | +931
# Depth in feet above ground.
* National Geodetic Vertical Datum.
+ North American Vertical Datum.
ADDRESSES
Licking County (Unincorporated Areas)
Maps available for inspection at Licking County Administration Office, 20 South Second Street, Newark, Ohio 43055.
Village of Alexandria
Maps available for inspection at Village of Alexandria, 116 Granville Street, Alexandria, Ohio 43001.
Village of Buckeye Lake
Maps available for inspection at Buckeye Lake Village Office, 5192 Walnut Road, Buckeye Lake, Ohio 43008.
Village of Granville
Maps available for inspection at Jerry Turner/Bird and Bull Engineers & Surveyors, 2875 Dublin Granville Road, Columbus, Ohio 43235.
Village of Hanover
Maps available for inspection at Hanover Village Hall, 200 New Home Drive NE, Hanover, Ohio 43055.
Village of Hartford
Maps available for inspection at Hartford Village Town Hall, 2 North High Street, Croton, Ohio 43013.
City of Heath
Maps available for inspection at Heath Municipal Building, 1287 Hebron Road, Heath, Ohio 43056.
Village of Hebron
Maps available for inspection at Village of Hebron Zoning Department, Attention: Theresa Ours, 116 W. Main Street, Hebron, Ohio 43025.
Village of Johnstown
Maps available for inspection at Village of Johnstown, 599 South Main Street, Johnstown, Ohio 43031.
Village of Kirkersville
Maps available for inspection at Kirkersville Village Hall, 135 N 5th Street, Kirkersville, Ohio 43033.
City of Newark
Maps available for inspection at City of Newark Division of Engineering, 40 West Main Street, Newark, Ohio 43055.
City of Pataskala
Maps available for inspection at City of Pataskala Administration Office, 196 East Broad Street, Pataskala, Ohio 43062.
City of Reynoldsburg
Maps available for inspection at City of Reynoldsburg Municipal Building, 7232 East Main Street, Reynoldsburg, Ohio 43068.
Village of St Louisville
Maps available for inspection at Village of St. Louisville, 257 South Sugar Street, St. Louisville, Ohio 43071.
Village of Utica
Maps available for inspection at Village Administration Office, 39 Spring Street, Utica, Ohio 43080.
Warren County, Kentucky and Incorporated Areas
Docket No.: FEMA-B-7463
Sinkhole No. 2 | At Media Drive | +464 | City of Bowling Green.
Sinkhole No. 3 | At Holly and Catherine Drives | +465 | City of Bowling Green.
Sinkhole No. 4A | At Holly and Catherine Drives | +461 | City of Bowling Green.
Sinkhole No. 4B | At Holly and Catherine Drives | +440 | City of Bowling Green.
Sinkhole No. 7 | At Boxwood Drive | +541 | City of Bowling Green and Warren County (Unincorporated Areas).
Sinkhole No. 7A | At Boxwood Drive | +541 | Warren County (Unincorporated Areas).
Sinkhole No. 14 | At Wellington Way | +482 | City of Bowling Green.
Sinkhole No. 21 | At Canton Avenue | +523 | City of Bowling Green.
Sinkhole No. 22 | At Andrea Street | +529 | City of Bowling Green.
Sinkhole No. 25A | At Pascoe Boulevard | +531 | City of Bowling Green.
Sinkhole No. 33 | At Rich Pond | +568 | Warren County (Unincorporated Areas).
Sinkhole No. 39A | At Bogle Lane | +488 | City of Bowling Green.
Sinkhole No. 39B | At Bogle Lane | +485 | City of Bowling Green.
# Depth in feet above ground.
* National Geodetic Vertical Datum.
+ National American Vertical Datum.
ADDRESSES
Maps are available for inspection at City-County Planning Commission of Warren County, 1141 State Street, Bowling Green, Kentucky.

(Catalog of Federal Domestic Assistance No. 83.100, “Flood Insurance.”)

Dated: November 7, 2006.
David I. Maurstad,
Director, Mitigation Division, Federal Emergency Management Agency, Department of Homeland Security.

[FR Doc. E6-19528 Filed 11-17-06; 8:45 am]

BILLING CODE 9110-12-P